DEPARTMENT OF COMMERCE

National Oceanic and Atmospheric Administration

Approval of a Boundary Expansion for the South Slough National Estuarine Research Reserve

AGENCY: Office for Coastal Management, National Ocean Service, National Oceanic and Atmospheric Administration, Department of Commerce.

ACTION: Notice of approval; notice of availability.

SUMMARY: In accordance with the Coastal Zone Management Act and its implementing regulations, notice is hereby given that NOAA's Office for Coastal Management approves a boundary expansion for the South Slough National Estuarine Research Reserve in Charleston, Oregon to add 1,771 acres, which consist of 30 acres added as a correction to account for changes in GIS-mapping technologies since the reserve was established in 1974; 1,541 acres of parcels currently owned by the Oregon Division of State Lands outside the existing boundary; and 200 acres of state-owned South Slough waters located adjacent to the expansion parcels, resulting in a new total area for the reserve of 6,542 acres. Pursuant to the National Environmental Policy Act, NOAA prepared a draft environmental assessment (draft EA) to analyze the effects of the requested expansion and solicited public comment on the draft EA. NOAA determined that the boundary expansion would not have significant environmental effects. Therefore, after considering the comments it received, NOAA issued a final environmental assessment and finding of no significant impact (FONSI).

ADDRESSES: The final environmental assessment and FONSI can be downloaded or viewed at coast.noaa.gov/czm/compliance/. The documents are also available by sending a written request to the point of contact identified below (see FOR FURTHER INFORMATION CONTACT).

FOR FURTHER INFORMATION CONTACT: Erica Seiden of NOAA's Office for Coastal Management, by email at Erica.Seiden@noaa.gov, phone at (240) 429-5166, or mail at 1305 East-West Highway, Silver Spring, 20910.

Authority: 16 U.S.C. 1451 et seq.; 42 U.S.C. 4321 et seq.; 15 CFR 921.33.

Keelin S. Kuipers,
Deputy Director, Office for Coastal Management, National Ocean Service, National Oceanic and Atmospheric Administration.

[FR Doc. 2024-10321 Filed 5-10-24; 8:45 am]

BILLING CODE 3510-08-P